DEPARTMENT OF COMMERCE

Foreign-Trade Zones Board

[B-81-2016]

Foreign-Trade Zone (FTZ) 134—Chattanooga, Tennessee; Notification of Proposed Production Activity; Volkswagen Group of America—Chattanooga Operations, LLC; (Passenger Motor Vehicles); Chattanooga, Tennessee

Volkswagen Group of America—Chattanooga Operations, LLC (VW) submitted a notification of proposed production activity to the FTZ Board for its facility in Chattanooga, Tennessee, within FTZ 134. The notification conforming to the requirements of the regulations of the FTZ Board (15 CFR 400.22) was received on November 25, 2016.

VW already has authority to produce passenger motor vehicles within Site 3 of FTZ 134. The current request would add foreign status materials/components to the scope of authority. Pursuant to 15 CFR 400.14(b), additional FTZ authority would be limited to the specific foreign-status materials/components and specific finished products described in the submitted notification (as described below) and subsequently authorized by the FTZ Board.

Production under FTZ procedures could exempt VW from customs duty payments on the foreign-status materials/components used in export production. On its domestic sales, VW would be able to choose the duty rates during customs entry procedures that apply to passenger motor vehicles (duty rate 2.5%) for the foreign-status materials/components noted below and in the existing scope of authority. Customs duties also could possibly be deferred or reduced on foreign-status production equipment.

The materials/components sourced from abroad include: Gasoline; diesel fuel, polyurea grease; hydraulic oil; polycarbamide grease; refrigerant; urea; clear lacquer; blending solvent; PVC finishing sheet; canvas covers; aluminum chassis plate; screw driver bits; software; spindle drives; aux-in ports; optical fiber cable; white motor vehicle bodies; and, prototype vehicles and engines (duty rate ranges from free to 5.7% + .013/KG).

Public comment is invited from interested parties. Submissions shall be addressed to the Board's Executive Secretary at the address below. The closing period for their receipt is January 17, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Kemp at Christopher.Kemp@trade.gov or (202) 482-0862.

Dated: November 30, 2016.
Andrew McGilvray,
Executive Secretary.

[FR Doc. 2016-29348 Filed 12-6-16; 8:45 am]

BILLING CODE 3510-DS-P